DEPARTMENT OF TRANSPORTATION

Federal Aviation Administration

14 CFR Part 71

[Docket No. FAA-2011-0078; Airspace Docket No. 10-AEA-20]

Establishment of Helicopter Area Navigation (RNAV) Routes; Northeast United States

AGENCY: Federal Aviation Administration (FAA), DOT.

ACTION: Final rule.

SUMMARY: This action establishes helicopter RNAV routes as part of the U.S. air traffic service route (ATS) structure and designates two helicopter RNAV routes (TK-routes) in the northeast corridor between the Washington, DC, and New York City metropolitan areas. The TK-routes are for use by helicopters having IFR-approved Global Positioning System (GPS)/Global Navigation Satellite System (GNSS) equipment. The FAA is taking this action to enhance safety and to improve the efficient use of the navigable airspace for en route IFR helicopter operations.

DATES: Effective date 0901 UTC, August 25, 2011. The Director of the Federal Register approves this incorporation by reference action under 1 CFR part 51, subject to the annual revision of FAA Order 7400.9 and publication of conforming amendments.

FOR FURTHER INFORMATION CONTACT: Paul Gallant, Airspace, Regulations and ATC Procedures Group, Office of Airspace Services, Federal Aviation Administration, 800 Independence Avenue, SW., Washington, DC 20591; telephone: (202) 267-8783.

SUPPLEMENTARY INFORMATION:

History

On Tuesday, March 8, 2011, the FAA published in the Federal Register a notice of proposed rulemaking to establish two helicopter RNAV routes in Northeast United States (76 FR 12643). Interested parties were invited to participate in this rulemaking effort by submitting written comments on the proposal. Four people submitted comments on the proposal.

Discussion of Comments

Two commenters wrote expressing support for the proposal. Two commenters raised several issues which are discussed below. One commenter questioned the need for a new type of airway for helicopters stating that the existing system of VOR Federal airways and RNAV T-routes should be sufficient. The commenter wrote, in the past, the FAA had designated routes for helicopters in the northeast, but they were seldom available for use. Additionally, the commenter asked if the air traffic control separation standards for IFR helicopters differ from those that apply to fixed-wing aircraft; contending that, if they are the same, there is no need for helicopter airways.

The past routes noted by the commenter were initiated in FAA Advisory Circular AC 73-2, “IFR Helicopter Operations in the Northeast Corridor,” dated June 11, 1979. AC 73-2 advised of special RNAV helicopter routes between Washington, DC, and Boston, MA. The routes were developed consistent with conventional traffic flows for use by helicopters under IFR conditions. Use of these routes was limited only to those operators that met specified criteria and were issued a letter of authorization from the FAA. Therefore, the routes were not available for general use and they were not depicted on IFR Enroute Low Altitude charts. The Advisory Circular was subsequently cancelled because the routes were designed for first generation RNAV systems which lacked the accuracy and reliability of satellite navigation and other advanced RNAV systems. Additionally, it was determined that the routes do not meet current Air Traffic Service route criteria. On March 26, 2007, the FAA issued a Letter to Airmen containing new routings to be filed with a “fix-to-fix” flight plan along the “old” IFR northeast corridor. As with the Advisory Circular routes, these routes are not depicted on IFR En route Low Altitude charts. The new TK routes in this rule approximate the former northeast corridor route tracks. In addition, the new TK routes are public routes that will be depicted on the IFR Enroute Low Altitude charts and available for use by suitably equipped helicopters.

Regarding IFR separation standards, there is no difference between IFR helicopters and IFR fixed wing aircraft. The question of establishing a new type of route for IFR helicopters was raised in response to user requests. In March 2006, the Helicopter Association International (HAI) requested that the FAA take action to develop and chart IFR RNAV airways for use by helicopters having IFR-approved GPS equipment. Of particular interest was the use of RNAV to assist IFR helicopter pilots transiting though busy terminal airspace areas while providing routes separate from fixed-wing traffic. This issue was studied by members of the Government/Industry Aeronautical Charting Forum (ACF), which is comprised of both FAA and Industry participants. The ACF supported the establishment of RNAV helicopter routes and concluded that a unique prefix should be used to identify these routes. Establishment of charted helicopter RNAV TK-routes will enhance safety and facilitate more flexible and efficient access to the NAS for IFR helicopter operations. In addition, the TK-routes will enable the designation of waypoints and feeder routes that would provide a connection between the NAS and instrument procedures serving helicopter landing/departure facilities. Among the potential benefits of these routes are more efficient and safer operations for helicopter emergency medical services flights.

One commenter asked if he could file a TK-route for a flight in a Cessna 150. The answer is no, due in part to the differing missions of fixed-wing aircraft and helicopters, TK-routes may start and end at locations inappropriate for fixed wing aircraft, such as in the vicinity of hospital or other helipad locations. Due to this difference TK-routes will be designated specifically for helicopter use; therefore, only suitably equipped helicopters will be able to file for the routes.

A commenter asked about the expected usage of the routes and the altitudes flown. It is anticipated the average usage rate would be around 30 to 50 flights per month for those route segments between the Philadelphia and the New York City areas. Usage of the full route between New York and Washington, DC, is expected to be about five per month. Altitude use on the routes will vary as with other ATS routes. Each TK-route will have a designated minimum en route IFR altitude (MEA). Assigned altitudes will be determined based on the requested altitude filed in the flight plan by the pilot and ATC requirements.

The FAA received one request to extend the comment period. We feel that sufficient information was received to issue a final rule; therefore, an extension is not needed.

One commenter questioned whether an environmental categorical exclusion (CATEX), as noted in the NPRM, was appropriate for this rule. This comment is addressed in the “Environmental Review” section, below.

The Rule

The FAA is amending Title 14, Code of Federal Regulations (14 CFR) part 71 adding low altitude helicopter RNAV routes (TK-routes) to the U.S. ATS route structure and designating the first two such helicopter RNAV routes. Helicopter RNAV routes will be identified by the International Civil Aviation Organization (ICAO) prefix “TK” followed by a 3-digit number. ICAO has allocated the number block 501 through 650 for U.S. use in identifying the routes. The two new routes in this rule, designated TK-502 and TK-504, will provide more direct routing for IFR helicopters in the northeast corridor between the New York City and Washington, DC, metropolitan areas. The routes will serve New York City, Philadelphia, Baltimore and Washington, DC area airports/heliports. The helicopter RNAV routes will be depicted on the appropriate IFR Enroute Low Altitude charts. Only GNSS equipped RNAV helicopters may file for the TK-routes.

Helicopter RNAV routes are published in paragraph 6012 of FAA Order 7400.9U dated August 18, 2010 and effective September 15, 2010, which is incorporated by reference in 14 CFR 71.1. The helicopter RNAV routes listed in this document will be subsequently published in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in subtitle VII, part A, subpart I, section 40103. Under that section, the FAA is charged with prescribing regulations to assign the use of the airspace necessary to ensure the safety of aircraft and the efficient use of airspace. This regulation is within the scope of that authority as it designates new helicopter RNAV air traffic service routes to enhance the safe and efficient use of the NAS in the northeastern United States.

Environmental Review

The TK routes have been determined to be Categorically Excluded from further environmental review in accordance with paragraphs 311a of FAA Order 1050.1E and documented under the provisions outlined in paragraph 305 of that order. The estimated number of daily helicopter operations is low, with an estimate of less than 50 helicopter operations on the routes per month. Based on the low number of operations, no noise analysis was needed as per FAA Order 1050.1E. Other environmental impact categories were considered as well as the potential for extraordinary circumstances before reaching this environmental determination of CATEX. The Air Traffic Initial Environmental Review (IER) is not a mandatory document and was not required for this action. The FAA issued a Categorical Exclusion/Record of Decision dated June 14, 2011.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p.389.

§ 71.1 [Amended]

2. The incorporation by reference in 14 CFR 71.1 of FAA Order 7400.9U, Airspace Designations and Reporting Points, Dated August 18, 2010 and effective September 15, 2010, is amended as follows:

Paragraph 6012 Helicopter Area Navigation Routes [New]

* * * * *

TK-502 Westminster (EMI), MD to DECKR, PA [New]
Westminster (EMI), MD | VORTAC | (Lat. 39°29′42″ N., long. 76°58′43″ W.)
TAYLO, MD | WP | (Lat. 39°39′48″ N., long. 76°27′43″ W.)
WINGO, PA | WP | (Lat. 39°45′59″ N., long. 76°06′55″ W.)
SINON, PA | WP | (Lat. 40°02′14″ N., long. 75°34′46″ W.)
GRIBL, PA | WP | (Lat. 40°14′30″ N., long. 74°53′31″ W.)
TOLAN, NJ | WP | (Lat. 40°21′58″ N., long. 74°25′23″ W.)
BALDE, NJ | WP | (Lat. 40°28′42″ N., long. 74°11′33″ W.)
SPATE, NY | WP | (Lat. 40°31′22″ N., long. 74°07′31″ W.)
DECKR, NY | WP | (Lat. 40°39′07″ N., long. 74°02′42″ W.)
* * * * * * *
TK-504 RUSEY, MD to BANKA, NJ [New]
RUSEY, MD | WP | (Lat. 39°16′07″ N., long. 76°11′19″ W.)
CIDOB, MD | WP | (Lat. 39°25′47″ N., long. 75°58′43″ W.)
HAMOR, PA | WP | (Lat. 39°51′21″ N., long. 75°47′17″ W.)
ARCUM, PA | WP | (Lat. 40°01′26″ N., long. 75°20′54″ W.)
TULLY, PA | WP | (Lat. 40°10′38″ N., long. 74°51′48″ W.)
BORKE, NJ | WP | (Lat. 40°10′12″ N., long. 74°22′32″ W.)
BANKA, NJ | WP | (Lat. 40°22′53″ N., long. 74°03′04″ W.)

Issued in Washington, DC, on June 20, 2011.
Gary A. Norek,
Acting Manager, Airspace, Regulations and ATC Procedures Group.

[FR Doc. 2011-15885 Filed 6-24-11; 8:45 am]

BILLING CODE 4910-13-P